DEPARTMENT OF COMMERCE

National Oceanic and Atmospheric Administration

50 CFR Part 660

[Docket No. 210505-0101; RTID 0648-XB310]

Fisheries Off West Coast States; Modification of the West Coast Salmon Fisheries; Inseason Action #25

AGENCY: National Marine Fisheries Service (NMFS), National Oceanic and Atmospheric Administration (NOAA), Commerce.

ACTION: Inseason modification of 2021 management measures.

SUMMARY: NMFS announces one inseason action in the 2021 ocean salmon fisheries. This inseason action modified the fishing days per calendar week in the recreational ocean salmon fishery in the area from Queets River, WA, to Leadbetter Point, WA (Westport subarea).

DATES: This inseason action became applicable on August 6, 2021, and remains in effect until superseded or modified.

FOR FURTHER INFORMATION CONTACT: Shannon Penna at 562-676-2148, email: Shannon.penna@noaa.gov.

SUPPLEMENTARY INFORMATION:

Background

The 2021 annual management measures for ocean salmon fisheries (86 FR 26425, May 14, 2021), announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions).

Management of the salmon fisheries is generally divided into two geographic areas: North of Cape Falcon (NOF) (U.S./Canada border to Cape Falcon, OR) and south of Cape Falcon (Cape Falcon, OR, to the U.S./Mexico border). The action described in this document affected the NOF recreational salmon fishery, as set out under the heading Inseason Action.

Consultation on this inseason action occurred on August 3, 2021. Representatives from NMFS, Washington Department of Fish and Wildlife (WDFW), Oregon Department of Fish and Wildlife (ODFW), and Council staff participated in the consultation.

This inseason action was announced on NMFS' telephone hotline and U.S. Coast Guard radio broadcast on the date of the consultations (50 CFR 660.411(a)(2)).

Inseason Action

Inseason Action #25

Description of the action: Inseason action #25 modified the fishing days per calendar week in the NOF recreational salmon fishery in the Westport subarea from five days per week (Sunday through Thursday) to seven days per week, beginning at 12:01 a.m. on Friday, August 6, 2021.

Effective date: Inseason action #25 took effect on August 6, 2021, and remains in effect until superseded.

Reason and authorization for the action: The 2021 management measures opened the recreational ocean salmon fishery in the Westport subarea seven days per week between June 19-26, 2021, and five days per week (Sunday through Thursday) between June 27-September 15, 2021 (86 FR 26425, May 14, 2021). The intent of limiting the fishing days per calendar week starting June 27, 2021, was to sustain season length. However, in the first six weeks of recreational fishing in the Westport subarea, June 19 through July 25 and with just over a month left in the season, only 9 percent of the subarea's coho salmon quota and 31 percent of the subarea's Chinook salmon guideline were landed. Consistent with preseason planning and management objectives, inseason action #25 was taken to provide greater fishing opportunity for the public to access the available coho salmon quota and Chinook salmon guideline and to provide economic benefit to the fishery dependent community. Based on landings to date, anticipated fishing effort, and projected catch, this action is not expected to result in reducing season length.

The NMFS West Coast Region Regional Administrator (RA) considered the landings of Chinook and coho salmon in the NOF recreational salmon fishery to date, fishery effort to date as well as anticipated under the proposal, and the recreational Chinook salmon guideline and coho salmon quotas remaining. The RA determined that inseason action #25 was necessary to meet preseason planning and management objectives to allow access to available salmon quota and support the economy of fishery dependent communities while remaining consistent with the applicable salmon management and conservation objectives. The modification of recreational fishing days per calendar week is authorized by 50 CFR 660.409(b)(1)(iii).

Consultation date and participants: Consultation on inseason action #25 occurred on August 3, 2021. Representatives from NMFS, WDFW, ODFW, and the Council participated in this consultation.

All other restrictions and regulations remain in effect as announced for the 2021 ocean salmon fisheries (86 FR 26425, May 14, 2021), as modified by previous inseason action (86 FR 34161, June 29, 2021; 86 FR 37249, July 15, 2021; 86 FR 40182, July 28, 2021; 86 FR 43967, August 11, 2021).

The NMFS West Coast Region RA determined that this inseason action was warranted based on the best available information on Pacific salmon abundance forecasts, landings to date, and anticipated fishery effort and projected catch. The states manage the fisheries in state waters adjacent to the areas of the U.S. exclusive economic zone (3-200 nautical miles (5.6-370.4 kilometers) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues this action pursuant to section 305(d) of the Magnuson-Stevens Fishery Conservation and Management Act (MSA). This action is authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information was developed and fisheries impacts were calculated, and the time the fishery modifications had to be implemented in order to ensure that fisheries are managed based on the best scientific information available. As previously noted, actual notice of the regulatory action was provided to fishers through telephone hotline and radio notification. This action complies with the requirements of the annual management measures for ocean salmon fisheries (86 FR 26425, May 14, 2021), the FMP, and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: August 24, 2021.
Jennifer M. Wallace,
Acting Director, Office of Sustainable Fisheries, National Marine Fisheries Service.

[FR Doc. 2021-18566 Filed 8-27-21; 8:45 am]

BILLING CODE 3510-22-P